DEPARTMENT OF HOMELAND SECURITY

Federal Emergency Management Agency

Agency Information Collection Activities: Proposed Collection; Comment Request

AGENCY: Federal Emergency Management Agency, DHS.

ACTION: Notice; 60-day notice and request for comments; Extension, without change, of a currently approved collection, OMB Number 1660-0024, No Form.

SUMMARY: The Federal Emergency Management Agency, as part of its continuing effort to reduce paperwork and respondent burden, invites the general public and other Federal agencies to take this opportunity to comment on a continuing information collection. In accordance with the Paperwork Reduction Act of 1995, this notice seeks comments concerning FEMA's request for information from the licensee of a nuclear power plant that is needed in order to form a decision as to whether or not a condition of “decline or fail” exists at the state and local government level in the preparation of emergency planning responses.

SUPPLEMENTARY INFORMATION: Executive Order 12657, dated November 18, 1988, charged the Federal Emergency Management Agency (FEMA) and other Federal agencies with emergency planning response in cases where State and local governments have declined or failed to prepare emergency plans. To implement Executive Order 12657, FEMA worked with the Nuclear Regulatory Commission (NRC) and other Federal agencies on the Federal Radiological Preparedness Coordinating Committee to develop regulation 44 CFR 352, Commercial Nuclear Power Plants: Emergency Preparedness Planning. This regulation establishes policies and procedures for a licensee submission of a certification of “decline or fail,” and for FEMA determination concerning Federal assistance to the licensee; and also establishes policies and procedures for providing Federal support for offsite planning and preparedness.

Collection of Information

Title: Federal Assistance for Offsite Radiological Emergency Planning.

Type of Information Collection: Extension, without change, of a currently approved collection.

OMB Number: 1660-0024.

Form Numbers: No Form

Abstract: In accordance with Executive Order 12657, FEMA will need certain information from the licensee in order to form a decision as to whether or not a condition of “decline or fail” exists on the part of State or local governments (44 CFR 352.3-4). This information will be collected by the appropriate FEMA Regional Office or Headquarters. Also in accordance with the Executive Order, when a licensee requests Federal facilities or resources, FEMA will need information from the NRC as to whether the licensee has made maximum use of its resources and the extent to which the licensee has complied with 10 CFR 50.47 (c)(1) and 44 CFR 352.5. This information will be collected by the NRC and will be provided to FEMA through consultation between the two agencies.

Affected Public: Business or other for-profits.

Estimated Total Annual Burden Hours: 160 hours.

Table A.12—Estimated Annualized Burden Hours and Costs
Type of respondent | Form name/ form No. | Number of respondents | Number of responses per respondent | Avg. burden per response (in hours) | Total annual burden (in hours) | Avg. hourly wage rate | Total annual respondent cost
Business or other for profits | Submission of decline/fail certification—No Form number | 1 | 1 | 40 | 40 | $46.70 | $1868
Business or other for profits | Document with explanation of why assistance needed | 1 | 1 | 20 | 20 | 46.70 | 934
Business or other for profits | Document with response of State Governor or local official with emergency preparedness plans | 1 | 1 | 40 | 40 | 46.70 | 1868
Business or other for profits | Document with licensee's maximum feasible use of its resources | 1 | 1 | 30 | 30 | 46.70 | 1401
Business or other for profits | Document with details of efforts to secure use of State and local government volunteer resources | 1 | 1 | 30 | 30 | 46.70 | 1401
Total |  | 1 |  |  | 160 |  | 7,472

Estimated Cost: The estimated annualized cost to respondents based on wage rate categories is $7,472.00. The estimated annual cost to the Federal Government is $4,171.00.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before November 10, 2008.

ADDRESSES: Interested persons should submit written comments to Office of Management, Records Management Division, Federal Emergency Management Agency, 500 C Street, SW., Washington, DC 20472, Mail Drop Room 301.

FOR FURTHER INFORMATION CONTACT: Contact D.J. Mauldin, Project Officer, Technological Hazards Division, Radiological Emergency Preparedness Branch, at (202) 212-2311 for additional information. You may contact the Records Management Branch for copies of the proposed collection of information at facsimile number (202) 646-3347 or e-mail address: FEMA-Information-Collections@dhs.gov.

Dated: September 4, 2008.
John A. Sharetts-Sullivan,
Director, Records Management Division, Office of Management, Federal Emergency Management Agency, Department of Homeland Security.

[FR Doc. E8-21133 Filed 9-10-08; 8:45 am]

BILLING CODE 9110-21-P